DEPARTMENT OF TRANSPORTATION

Federal Aviation Administration

14 CFR Part 97

[Docket No. 30511 Amdt. No. 3182]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective September 12, 2006. The compliance date for each SIAP and/or Weather Takeoff Minimums is specified in the amendatory provisions.

The incorporation by reference of certain publications listed in the regulations is approved by the Director of the Federal Register as of September 12, 2006.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration(NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on August 25, 2006.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 28 September 2006

Cordova, AK, Merle K. (Mudhole) Smith, NDB/DME-A, Amdt 1A, CANCELLED

Kenai, AK, Kenai Muni, DF RWY 19R, Orig, CANCELLED

Kotzebue, AK, Ralph Wien Memorial, DF RWY 08, Orig, CANCELLED

Kotzebue, AK, Ralph Wien Memorial, DF RWY 26, Orig, CANCELLED

Port Heiden, AK, Port Heiden, DF RWY 13, Orig, CANCELLED

Sitka, AK, Sitka Rocky Gutierrez, NDB-A, Amdt 1, CANCELLED

Camden, AR, Harrell Field, NDB RWY 18, Amdt 11, CANCELLED

Forrest City, AR, Forrest City Muni, NDB RWY 36, Amdt 4B, CANCELLED

Harrison, AR, Boone County, NDB-B, Amdt 3A, CANCELLED

Mountain Home, AR, Ozark Regional, VOR/DME RNAV RWY 5, Amdt 1C, CANCELLED

Newport, AR, Newport Muni, NDB RWY 36, Amdt 7A, CANCELLED

West Memphis, AR, West Memphis Muni, NDB-B, Amdt 3A, CANCELLED

Phoenix, AZ, Phoenix Sky Harbor Intl, VOR/DME-A, Orig, CANCELLED

Phoenix, AZ, Phoenix Sky Harbor Intl, VOR/DME RWY 25R, Amdt 1B, CANCELLED

Phoenix, AZ, Phoenix Sky Harbor Intl, LOC BC RWY 25R, Amdt 9B, CANCELLED

Prescott, AZ, Ernest A. Love Field, VOR/DME RNAV RWY 21L, Amdt 3A, CANCELLED

Tucson, AZ, Ryan Field, NDB OR GPS-D, Amdt 1A, CANCELLED

Tucson, AZ, Tucson Intl, VOR OR TACAN RWY 11L, Amdt 1

Apple Valley, CA, Apple Valley, RNAV (GPS) Y RWY 18, Amdt 1

Apple Valley, CA, Apple Valley, RNAV (GPS) Z RWY 18, Orig

Concord, CA, Buchanan Field, NDB RWY 19R, Amdt 1, CANCELLED

Lincoln, CA, Lincoln Regional, VOR RWY 15, Amdt 4, CANCELLED

Marysville, CA, Yuba County, VOR RWY 14, Amdt 9D, CANCELLED

Merced, CA, Merced Muni-MacReady Field, VOR RWY 12, Amdt 7B, CANCELLED

Merced, CA, Merced Muni-MacReady Field, VOR RWY 30, Amdt 18B, CANCELLED

Modesto, CA, Modesto City-Co-Harry Sham Fld, VOR RWY 28R, Amdt 11, CANCELLED

Oakland, CA, Metropolitan Oakland Intl, VOR/DME RWY 29, Amdt 1, CANCELLED

Ontario, CA, Ontario Intl, VOR/DME RWY 8L, Amdt 1, CANCELLED

Ontario, CA, Ontario Intl, VOR OR TACAN RWY 26R, Amdt 10A, CANCELLED

San Jose, CA, Norman Y. Mineta San Jose Intl, NDB/DME RWY 30L, Amdt 6, CANCELLED

Santa Ana, CA, John Wayne-Orange County, RNAV (GPS) RWY 19R, Amdt 1

Fort Pierce, FL, St. Lucie County Intl, NDB RWY 9, Orig-A, CANCELLED

Perry, FL, Perry-Foley, NDB RWY 36, Amdt 4, CANCELLED

Tampa, FL, Tampa Intl, NDB OR GPS RWY 36L, Amdt 13B, CANCELLED

Atlanta, GA, Hartsfield-Jackson Atlanta Intl, ILS OR LOC RWY 28; ILS RWY 28 (CAT II), Orig-A

Rome, GA, Richard B. Russell, NDB OR GPS-A, Amdt 6A, CANCELLED

Agana, GU, Guam International, RNAV (GPS) Y RWY 6L, Amdt 1

Agana, GU, Guam International, RNAV (RNP) Z RWY 6L, Orig

Agana, GU, Guam International, RNAV (GPS) Z RWY 6L, Orig-C, CANCELLED

Agana, GU, Guam International, RNAV (RNP) Z RWY 6R, Orig

Agana, GU, Guam International, RNAV (GPS) Y RWY 24L, Amdt 1

Agana, GU, Guam International, RNAV (GPS) Y RWY 24R, Amdt 1

Agana, GU, Guam International, RNAV (RNP) Z RWY 24L, Orig

Lewiston, ID, Lewiston-Nez Perce County, VOR RWY 8, Amdt 6

Alton/St. Louis, IL, St Louis Regional, NDB RWY 29, Amdt 11, CANCELLED

Belleville, IL, Scott AFB/MIDAMERICA, NDB RWY 32L, Orig, CANCELLED

Chicago/Aurora, IL, Aurora Muni, VOR/DME RNAV RWY 27, Amdt 1, CANCELLED

Chicago/Waukegan, IL, Waukegan Regional, NDB RWY 23, Amdt 3, CANCELLED

Chicago/Waukegan, IL, Waukegan Regional, VOR/DME RNAV RWY 5, Amdt 3, CANCELLED

Joliet, IL, Joliet Regional, VOR/DME RNAV RWY 12, Amdt 12A, CANCELLED

Kankakee, IL, Greater Kankakee, VOR/DME RNAV RWY 22, Amdt 3A, CANCELLED

Macomb, IL, Macomb Muni, NDB RWY 27, Amdt 3, CANCELLED

Moline, IL, Quad City, VOR/DME RNAV RWY 31, Amdt 10, CANCELLED

Peoria, IL, Greater Peoria Regional, VOR/DME RNAV RWY 4, Amdt 6A, CANCELLED

Peoria, IL, Greater Peoria Regional, VOR/DME RNAV RWY 22, Amdt 8, CANCELLED

Springfield, IL, Abraham Lincoln Capital, NDB RWY 4, Amdt 19, CANCELLED

Springfield, IL, Abraham Lincoln Capital, NDB RWY 22, Amdt 1, CANCELLED

Auburn, IN, De Kalb County, RNAV (GPS) RWY 9, Orig

Auburn, IN, De Kalb County, RNAV (GPS) RWY 27, Orig

Auburn, IN, De Kalb County, GPS RWY 9, Orig, CANCELLED

Auburn, IN, De Kalb County, GPS RWY 27, Orig-A, CANCELLED

Auburn, IN, De Kalb County, Takeoff Minimums and Textual DPs, Amdt 1

Columbus, IN, Columbus Muni, NDB RWY 23, Amdt 11, CANCELLED

Elkhart, IN, Elkhart Muni, VOR/DME RNAV OR GPS RWY 18, Amdt 3, CANCELLED

Lafayette, IN, Purdue University, VOR/DME RNAV RWY 28, Amdt 6, CANCELLED

Muncie, IN, Delaware County-Johnson Field, NDB RWY 32, Amdt 12A, CANCELLED

South Bend, IN, South Bend Regional, NDB RWY 27L, Amdt 29, CANCELLED

Valparaiso, IN, Porter County Muni, VOR/DME RNAV RWY 9, Amdt 4, CANCELLED

Augusta, KS, Augusta Muni, VOR/DME RNAV RWY 36, Orig-A, CANCELLED

Emporia, KS, Emporia Muni, VOR/DME RNAV RWY 19, Amdt 8, CANCELLED

Baton Rouge, LA, Baton Rouge Metropolitan, Ryan Field, LOC BC RWY 4L, Amdt 6D, CANCELLED

Hammond, LA, Hammond Northshore Regional, NDB OR GPS RWY 18, Amdt 2B, CANCELLED

Houma, LA, Houma-Terrebonne, NDB RWY 18, Amdt 4B, CANCELLED

College Park, MD, College Park, VOR/DME RNAV RWY 15, Amdt 3A, CANCELLED

Cumberland, MD, Greater Cumberland Regional, NDB-A, Amdt 8B, CANCELLED

Ann Arbor, MI, Ann Arbor Muni, VOR/DME RNAV RWY 24, Amdt 6A, CANCELLED

Bellaire, MI, Antrim County, NDB RWY 2, Amdt 2B, CANCELLED

Boyne Falls, MI, Boyne Mountain, VOR/DME RNAV OR GPS-B, Amdt 3, CANCELLED

Cadillac, MI, Wexford County, VOR/DME RNAV RWY 7, Amdt 8, CANCELLED

Cadillac, MI, Wexford County, VOR/DME RNAV RWY 25, Amdt 7, CANCELLED

Detroit, MI, Willow Run, NDB RWY 5R, Amdt 12, CANCELLED

Grand Haven, MI, Grand Haven Meml Airpark, VOR/DME RNAV RWY 27, Amdt 6, CANCELLED

Holland, MI, Tulip City, VOR/DME RNAV RWY 8, Amdt 2B, CANCELLED

Holland, MI, Tulip City, VOR/DME RNAV RWY 26, Amdt 5B, CANCELLED

Marquette, MI, Sawyer Intl, VOR/DME RWY 1, Orig, CANCELLED

Canby, MN, Myers Field, RNAV (GPS) RWY 12, Orig, CANCELLED

Grand Rapids, MN, Grand Rapids/Itasca Co-Gordon Newstrom, NDB RWY 34, Amdt 7, CANCELLED

Minneapolis, MN, Minneapolis-St Paul Intl/Wold Chamberlain, ILS PRM RWY 12L, Amdt 4B, CANCELLED (Simultaneous Close Parallel)

Minneapolis, MN, Minneapolis-St Paul Intl/Wold Chamberlain, ILS PRM RWY 30R, Amdt 6C, CANCELLED (Simultaneous Close Parallel)

Minneapolis, MN, Minneapolis-St Paul Intl/Wold Chamberlain, ILS PRM RWY 30L, Amdt 5C, CANCELLED (Simultaneous Close Parallel)

Minneapolis, MN, Minneapolis-St Paul Intl/Wold Chamberlain, ILS PRM RWY 12R, Amdt 3B, CANCELLED (Simultaneous Close Parallel)

Redwood Falls, MN, Redwood Falls Muni, VOR/DME RNAV RWY 30, Amdt 1A, CANCELLED

Warroad, MN, Warroad Intl-Swede Carlson Field, VOR/DME RNAV RWY 31, Amdt 4, CANCELLED

Kansas City, MO, Charles B Wheeler Downtown, ILS OR LOC RWY 19, Amdt 21

Lebanon, MO, Floyd W Jones Lebanon, NDB RWY 36, Amdt 6A, CANCELLED

Monett, MO, Monett Muni, VOR/DME RNAV RWY 18 Amdt 1, CANCELLED

Clarksdale, MS, Fletcher Field, NDB-A, Amdt 2, CANCELLED

Kosciusko, MS, Kosciusko-Attala County, NDB RWY 14, Amdt 6, CANCELLED

Kosciusko, MS, Kosciusko-Attala County, NDB RWY 32, Amdt 5, CANCELLED

Missoula, MT, Missoula International, VOR-C, Amdt 2, CANCELLED

Oak Island, NC, Brunswick County, NDB-A, Orig, CANCELLED

Plymouth, NC, Plymouth Muni, NDB RWY 3, Amdt 3, CANCELLED

Wilson, NC, Wilson Industrial Air Center, NDB RWY 3, Amdt 6A, CANCELLED

Wilson, NC, Wilson Industrial Air Center, NDB RWY 21, Amdt 1C, CANCELLED

Beatrice, NE, Beatrice Municipal, NDB-A, Amdt 3B, CANCELLED

Omaha, NE, Millard, VOR/DME RNAV RWY 12, Amdt 6A, CANCELLED

Atlantic City, NJ, Atlantic City International, ILS OR LOC RWY 13, Amdt 7

Buffalo, NY, Buffalo Niagara Intl, ILS OR LOC RWY 5, Amdt 14

Buffalo, NY, Buffalo Niagara Intl, ILS OR LOC RWY 23, Amdt 29

Buffalo, NY, Buffalo Niagara Intl, NDB RWY 5, Amdt 11

Buffalo, NY, Buffalo Niagara Intl, RNAV (GPS) RWY 5, Amdt 1

Buffalo, NY, Buffalo Niagara Intl, RNAV (GPS) RWY 23, Amdt 1

Buffalo, NY, Buffalo Niagara Intl, Takeoff Minimums and Textual DP, Amdt 4

Wellsville, NY, Wellsville Muni Arpt, Tarantine Fld, NDB OR GPS RWY 28, Amdt 6B, CANCELLED

Circleville, OH, Pickaway County Memorial, NDB RWY 19, Orig-A, CANCELLED

Cleveland, OH, Cleveland-Hopkins Intl, NDB RWY 6R, Amdt 6, CANCELLED

Cleveland, OH, Cleveland-Hopkins Intl, VOR/DME RNAV OR GPS RWY 10, Amdt 12A, CANCELLED

Dayton, OH, Dayton-Wright Brothers, RNAV (GPS) RWY 2, Orig

Dayton, OH, Dayton-Wright Brothers, RNAV (GPS) RWY 20, Orig

Dayton, OH, Dayton-Wright Brothers, NDB-A, Amdt 2

Dayton, OH, Dayton-Wright Brothers, LOC/DME RWY 20, Orig

Dayton, OH, Dayton-Wright Brothers, LOC RWY 20, Amdt 5, CANCELLED

Dayton, OH, Dayton-Wright Brothers, Takeoff Minimums and Textual DPs, Amdt 3

Findlay, OH, Findlay, NDB RWY 36, Amdt 11, CANCELLED

Newark, OH, Newark-Heath, VOR/DME RNAV RWY 27, Amdt 6A, CANCELLED

Toledo, OH, Toledo Express, VOR/DME RNAV RWY 16, Amdt 5B, CANCELLED

Altus, OK, Altus/Quartz Mountain Regional, VOR/DME RNAV RWY 17, Amdt 2B, CANCELLED

Alva, OK, Alva Regional, NDB RWY 35, Amdt 4A, CANCELLED

Ardmore, OK, Ardmore Downtown Executive, VOR/DME RNAV RWY 17, Amdt 7, CANCELLED

Ardmore, OK, Ardmore Downtown Executive, VOR/DME RNAV RWY 35, Amdt 5B, CANCELLED

Bristow, OK, Jones Meml, NDB RWY 35, Amdt 2, CANCELLED

Chickasha, OK, Chickasha Muni, VOR/DME RNAV RWY 35, Amdt 2, CANCELLED

Oklahoma City, OK, Sundance Airpark, VOR/DME RNAV RWY 35, Amdt 1A, CANCELLED

Ponca City, OK, Ponca City Rgnl, NDB RWY 35, Amdt 4A, CANCELLED

Ponca City, OK, Ponca City Rgnl, VOR/DME RNAV RWY 35, Amdt 2B, CANCELLED

Klamath Falls, OR, Kingsley Field, NDB OR GPS RWY 32, Amdt 1, CANCELLED

Galeton, PA, Cherry Springs, VOR/DME-A, Orig-A, CANCELLED

Galeton, PA, Cherry Springs, Takeoff Minimums and Textual DP, Amdt 1, CANCELLED

Harrisburg, PA, Capital City, RNAV (GPS) RWY 26, Orig

Harrisburg, PA, Capital City, GPS RWY 26, Orig-B, CANCELLED

Philadelphia, PA, Wings Field, NDB RWY 6, Amdt 9A, CANCELLED

St Marys, PA, St Marys Muni, RNAV (GPS) RWY 10, Amdt 1

St Marys, PA, St Marys Muni, RNAV (GPS) RWY 28, Amdt 1

State College, PA, University Park, VOR/DME RNAV OR GPS RWY 6, Amdt 6C, CANCELLED

State College, PA, University Park, RNAV (GPS) RWY 6, Orig

Ponce, PR, Mercedita, RNAV (GPS) RWY 30, Orig

Charleston, SC, Charleston Executive, VOR/DME RNAV RWY 9, Amdt 5B, CANCELLED

Laurens, SC, Laurens County, NDB RWY 8, Amdt 1B, CANCELLED

Orangeburg, SC, Orangeburg Muni, Takeoff Minimums and Textual DP, Amdt 3

Chattanooga, TN, Lovell Field, NDB RWY 20, Amdt 31, CANCELLED

Jacksboro, TN, Campbell County, NDB RWY 23, Amdt, 5, CANCELLED

Lewisburg, TN, Ellington, VOR/DME RNAV RWY 20, Orig, CANCELLED

Lexington, TN, Franklin Wilkins, VOR OR GPS RWY 33, Amdt 10A, CANCELLED

Nashville, TN, Nashville Intl, NDB RWY 2L, Amdt 7, CANCELLED

Parsons, TN, Scott Field, VOR/DME OR GPS-A, Amdt 2, CANCELLED

Parsons, TN, Scott Field, VOR/DME OR GPS-B, Amdt 1, CANCELLED

Baytown, TX, R W J Airpark, VOR/DME RWY 32, Amdt 5, CANCELLED

Cleburne, TX, Cleburne Muni, VOR/DME-A, Orig-A, CANCELLED

Giddings, TX, Giddings-Lee County, VOR/DME RNAV RWY 35, Amdt 1, CANCELLED

Greenville, TX, Majors, NDB RWY 17, Amdt 6, CANCELLED

Greenville, TX, Majors, NDB RWY 35, Amdt 2, CANCELLED

Houston, TX, Sugar Land Rgnl, VOR/DME RNAV RWY 35, Amdt 8A, CANCELLED

Kerrville. TX, Kerrville Muni/Louis Schreiner Field, VOR/DME RNAV RWY 12, Amdt 3, CANCELLED

Laredo, TX, Laredo Intl, NDB RWY 17R, Amdt 10, CANCELLED

Mesquite, TX, Mesquite Metro, NDB OR GPS RWY 17 Amdt 5B, CANCELLED

Rocksprings, TX, Edwards County, VOR RWY 14, Amdt 5

Rocksprings, TX, Edwards County, Takeoff Minimums and Textual DP, Orig

Wichita Falls, TX, Kickapoo Downtown, NDB-A, Amdt 6A, CANCELLED

Culpeper, VA, Culpeper Regional, NDB RWY 22, Amdt 1A, CANCELLED

Norfolk, VA, Norfolk Intl, NDB RWY 5, Orig-C, CANCELLED

Norfolk, VA, Norfolk Intl, NDB/DME RWY 23, Orig-B, CANCELLED

Winchester, VA, Winchester Regional, NDB OR GPS-B, Amdt 1, CANCELLED

Richland, WA, Richland, NDB RWY 19, Amdt 6, CANCELLED

Seattle, WA, Seattle-Tacoma Intl, RNAV (GPS) RWY 16C, Orig-D

Shelton, WA, Sanderson Field, Takeoff Minimums and Textual DP, Amdt 4

Wenatchee, WA, Pangborn Memorial, ILS Y RWY 12, Orig

Delavan, WI, Lake Lawn, NDB RWY 18, Orig, CANCELLED

Marshfield, WI, Marshfield Muni, NDB RWY 34, Orig, CANCELLED

Platteville, WI, Platteville Municipal, VOR/DME RNAV OR GPS RWY 25, Amdt 6A, CANCELLED

Sturgeon Bay, WI, Door County Cherryland, NDB RWY 2, Amdt 11, CANCELLED

Huntington, WV, Tri-State/Milton J. Ferguson Field, NDB RWY 12, Amdt 18, CANCELLED

The FAA published an Amendment in Docket No. 30508, Amdt No. 3180 to Part 97 of the Federal Aviation Regulations (Vol 161, FR No. 71, pages 48471 & 48473; dated Monday, August 21, 2006) under § 97.33 effective 28 SEP 2006, which is hereby rescinded:

Greeley, CO, Greeley-Weld County, NDB RWY 34, Orig, CANCELLED Houston, TX, David Wayne Hooks Memorial, VOR/DME RNAV RWY 35L, Amdt 4, CANCELLED

The FAA published an Amendment in Docket No. 30498, Amdt No. 3170 to Part 97 of the Federal Aviation Regulations (Vol 71, FR 114, page 34247; dated Wednesday, June 14, 2006) under § 97.33 effective 28 SEP 2006, which is hereby rescinded:

Portland, OR, Portland-Hillsboro, NDB-B, Amdt 2, CANCELLED

Shelton, WA, Sanderson Field, NDB OR GPS-A, Amdt 2, CANCELLED

[FR Doc. E6-14731 Filed 9-11-06; 8:45 am]

BILLING CODE 4910-13-P